DEPARTMENT OF AGRICULTURE

Grain Inspection, Packers and Stockyards Administration

[06-GL-S]

Designation for the State of Texas Area

AGENCY: Grain Inspection, Packers and Stockyards Administration, USDA.

ACTION: Notice.

SUMMARY: The Grain Inspection, Packers and Stockyards Administration (GIPSA) announces the designation of Intercontinental Grain Inspections, Inc. (Intercontinental), to provide official inspection services under the United States Grain Standards Act, as amended (Act).

DATES: Effective Date: April 10, 2006.

ADDRESSES: USDA, GIPSA, John R. Sharpe, Division Director, Compliance Division, STOP 3604, Room 1647-S, 1400 Independence Avenue, SW., Washington, DC 20250-3604.

FOR FURTHER INFORMATION CONTACT: John R. Sharpe at 202-720-8262, e-mail John.R.Sharpe@usda.gov.

SUPPLEMENTARY INFORMATION: This action has been reviewed and determined not to be a rule or regulation as defined in Executive Order 12866 and Departmental Regulation 1512-1; therefore, the Executive Order and Departmental Regulation do not apply to this action.

In the February 1, 2006, Federal Register (71 FR 5232), GIPSA announced that Global Grain Inspection Services, Inc. (Global), asked GIPSA to voluntarily cancel their designation to provide domestic grain inspection services in the area for which they were designated in the State of Texas effective April 9, 2006. Accordingly, Global's designation will cease effective April 9, 2006, and GIPSA asked persons or organizations interested in providing official grain inspection services in the State of Texas to submit an application for designation by March 3, 2006.

There were three applicants for the Texas geographic area: A company proposing to do business as Gulf Country Inspection Service, Inc (Gulf); a company proposing to do business as Intercontinental Grain Inspections, Inc. (Intercontinental), a subsidiary of Socit Gnrale de Surveillance North America, Inc. (SGS); and South Texas Grain Inspection LLC (South Texas), a proposed organization being formed by the Corpus Christi Grain Exchange, Inc. (CCGE), to function under a trust. Gulf and Intercontinental indicated they would be willing to accept more or less geographic area previously designated to Global in order to provide needed service to all requestors. South Texas applied only for the Texas Counties named in the February 1, 2006, Federal Register. GIPSA asked for comments on Gulf, Intercontinental, and South Texas, in the March 14, 2006, Federal Register.

Comments were due by March 29, 2006. GIPSA received a total of 17 comments by the closing date. GIPSA received 1 comment from a grain association supporting Gulf for designation. We received 7 comments supporting Intercontinental for designation; 4 of which were from grain elevators in the area, 2 from prospective employees, and 1 from a border bridge owner. GIPSA received 8 comments supporting South Texas for designation; 7 of which were from grain industry in the area and one from a congressional office. The final commenter, a grain company official, supported both Intercontinental and South Texas.

GIPSA evaluated all available information regarding the designation criteria in Section 7(f)(l)(A) of the Act and, according to Section 7(f)(l)(B), determined that Intercontinental is better able to provide official services in the geographic area specified in the February 1, 2006, Federal Register, for which it applied. Intercontinental is designated for 18 months only, effective April 10, 2006, and terminating September 30, 2007. Intercontinental will be headquartered in Fort Worth, Texas.

Given Global's cancellation date of April 9, 2006, there was not sufficient time to solicit and designate a replacement agency and have a new agency begin. For these reasons, interested persons that want to obtain official services in the Texas area North of Interstate 10 should call the FGIS Wichita Field Office at 316-722-6370 and South of Interstate 10 should call the FGIS League City Field Office at 281-338-2787 to obtain interim service until Intercontinental begins service.

Authority: Pub. L. 94-582, 90 Stat. 2867, as amended (7 U.S.C. 71 et seq.).

David R. Shipman,
Acting Administrator, Grain Inspection, Packers and Stockyards Administration.

[FR Doc. E6-5400 Filed 4-11-06; 8:45 am]

BILLING CODE 3410-EN-P